NUCLEAR REGULATORY COMMISSION

10 CFR Part 72

[NRC-2024-0120]

RIN 3150-AL19

List of Approved Spent Fuel Storage Casks: NAC International, Inc. MAGNASTOR® Storage System, Certificate of Compliance No. 1031, Amendment No. 13

AGENCY: Nuclear Regulatory Commission.

ACTION: Direct final rule; confirmation of effective date.

SUMMARY: The U.S. Nuclear Regulatory Commission (NRC) is confirming the effective date of November 19, 2024, for the direct final rule that was published in the Federal Register on September 5, 2024. This direct final rule amended the NAC International, Inc. MAGNASTOR® Storage System listing within the “List of approved spent fuel storage casks” to include Amendment No. 13 to Certificate of Compliance No. 1031.

DATES: The effective date of November 19, 2024, for the direct final rule published September 5, 2024 (89 FR 72299), is confirmed.

ADDRESSES: Please refer to Docket ID NRC-2024-0120 when contacting the NRC about the availability of information for this action. You may obtain publicly available information related to this action by any of the following methods:

• Federal Rulemaking Website: Go to https://www.regulations.gov and search for Docket ID NRC-2024-0120. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The Amendment No. 13 of certificate of compliance No. 1031 and associated changes to the technical specifications, and safety evaluation report can also be viewed in ADAMS under Package Accession No. ML24075A113.

• NRC's PDR: The PDR, where you may examine and order copies of public documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: George Tartal, Office of Nuclear Material Safety and Safeguards; telephone: 301-415-0016, email: george.tartal@nrc.gov and Nishka Devaser, telephone: 301-415-5196, email: nishka.devaser@nrc.gov. Both are staff of the U.S. Nuclear Regulatory Commission, Washington, DC 20555-0001.

SUPPLEMENTARY INFORMATION: On September 5, 2024 (89 FR 72299), the NRC published a direct final rule amending its regulations in part 72 of title 10 of the Code of Federal Regulations by revising the NAC International Inc. MAGNASTOR® Storage System listing within the “List of approved spent fuel storage casks” to include Amendment No. 13 to Certificate of Compliance No. 1031. Amendment No. 13 amends the certificate of compliance to add a new type of radioactive contents to be stored inside the canister, use an alternative concrete compressive strength, and add a new design configuration to accommodate the new contents.

In the direct final rule, the NRC stated that if no significant adverse comments were received, the direct final rule would become effective on November 19, 2024. The NRC did not receive any comments on the direct final rule. Therefore, this direct final rule will become effective as scheduled.

Dated: October 11, 2024.
For the Nuclear Regulatory Commission.
Aaron Sanders,
Acting Chief, Regulatory Analysis and Rulemaking Support Branch, Division of Rulemaking, Environmental, and Financial Support, Office of Nuclear Material Safety and Safeguards.

[FR Doc. 2024-24059 Filed 10-17-24; 8:45 am]

BILLING CODE 7590-01-P